DEPARTMENT OF STATE

[Public Notice 6885]

Meeting of the Working group on Environmental Cooperation Pursuant to the United States-Morocco Joint Statement on Environmental Cooperation

ACTION: Notice.

SUMMARY: The Department of State is providing notice that the U.S. and Morocco will hold a meeting of the Working Group on Environmental Cooperation (“Working Group”) in Rabat, Morocco on February 9, 2010, at a venue to be announced. Meetings of the Working Group were forecast in paragraph five of the United States-Morocco Joint Statement on Environmental Cooperation (“Joint Statement”), signed on June 1, 2004.

During the meeting, the U.S. and Morocco will review cooperative environmental work they have undertaken and will outline plans for future activities pursuant to the Joint Statement. In addition, the U.S. and Morocco will formally review and adopt a new 2010-2012 Plan of Action for implementing environmental cooperation consistent with the Joint Statement. The entire meeting will be open to the public with simultaneous interpretation in English and French. Time will be allocated for question and answer sessions. See below under SUPPLEMENTARY INFORMATION for additional details on the background and purpose of the meeting.

DATES: To be assured of timely consideration, all written comments or suggestions are requested no later than February 3, 2010.

ADDRESSES: Written comments or suggestions should be e-mailed (WingRD@state.gov) or faxed ((202) 647-1052) to Robert Wing, U.S. Department of State, Bureau of Oceans, Environment, and Science, Office of Environmental Policy, with the subject line “Meeting of the U.S.-Morocco Working Group on Environmental Cooperation.” For those with access to the Internet, comments may be submitted at the following address: http://www.regulations.gov/search/Regs/home.html#home.

FOR FURTHER INFORMATION CONTACT: Robert Wing, telephone (202) 647-6780.

SUPPLEMENTARY INFORMATION: In paragraph five of the U.S.-Morocco Joint Statement on Environmental Cooperation, the United States and Morocco announced the establishment of a Working Group on Environmental Cooperation intended to meet regularly. The mandate of the Working Group is to advance environmental protection in Morocco by developing cooperative environmental activities that take into account environmental priorities and that are agreed to by the two Governments. The Working Group will develop a Plan of Action towards meeting this goal.

The 2005-2007 Plan of Action focused on a set of mutually identified goals which will advance environmental protection in Morocco and will assist Morocco in meeting its obligations under the U.S.-Morocco Free Trade Agreement. These goals were: (1) Strengthening the capacity to develop, implement and enforce environmental laws and regulations, (2) encouraging the development of incentives and voluntary mechanisms to contribute to the achievement and maintenance of high levels of environmental protection, (3) promoting opportunities for public participation in environmental protection efforts and improving public access to information and access to justice on environmental issues, (4) protecting coastal environmental zones and estuaries and preventing the over-exploitation of fisheries resources, (5) safeguarding important natural resources, such as water, and protected areas in Morocco, and (6) promoting the growth of the environmental-technology business sector. Some indicative actions undertaken in these areas have included workshops on environmental impact assessment and the use of economic incentives for environmental decision making. Ongoing work includes: Assistance to Morocco on enhanced compliance with the Convention on International Trade in Endangered Species of Wild Flora and Fauna (CITES) through legislation; technical assistance for a plan to enforce environmental rules in the textile sector; and development of a plan to manage waste from olive oil factories. The United States Agency for International Development, the Department of the Interior, the Department of Commerce, the Environmental Protection Agency, the Department of Agriculture and the Trade and Development Agency and others have been involved in implementing these activities. Officials from U.S. and Moroccan agencies will present and discuss their activities at the Working Group meeting. The 2010-2012 Plan of Action will seek to build upon the progress made in the previous Plan of Action and will detail cooperative activities in four main priority areas: Institutional and policy strengthening; biodiversity conservation and improved management of protected areas; improved private sector environmental performance; and environmental education, transparency, and public participation in environmental decision-making and enforcement.

For more information, interested parties are encouraged to refer to: (1) The U.S.-Morocco Joint Statement on Environmental Cooperation, (2) the 2005-2007 Plan of Action, (3) Chapter 17 of the Free Trade Agreement between the United States and Morocco, (4) the 2004 Final Environmental Review of the U.S.-Morocco Free Trade Agreement, and (5) the Web site of the Moroccan Ministry of the Environment (French and Arabic) which are all available or linked at: http://www.state.gov/g/oes/env/trade/morocco.

Dated: January 22, 2010.
Willem H. Brakel,
Acting Director, Office of Environmental Policy, Department of State.

[FR Doc. 2010-1595 Filed 1-26-10; 8:45 am]

BILLING CODE 4710-09-P